DEPARTMENT OF DEFENSE

Office of the Secretary

[Docket ID DOD-2009-OS-0115]

Privacy Act of 1974; Systems of Records

AGENCY: Defense Threat Reduction Agency, DoD.

ACTION: Notice to Add a System of Records.

SUMMARY: The Defense Threat Reduction Agency is proposing to add a system of records to its inventory of record systems subject to the Privacy Act of 1974 (5 U.S.C. 552a), as amended.

DATES: This action will be effective without further notice on September 8, 2009 unless comments are received that would result in a contrary determination.

ADDRESSES: Send comments to the Freedom of Information and Privacy Office, Defense Threat Reduction Agency, 8725 John J. Kingman Road, Fort Belvoir, VA 22060-6201.

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The proposed systems reports, as required by 5 U.S.C. 552a(r) of the Privacy Act of 1974, as amended, was submitted on July 20, 2009, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: July 21, 2009.
Patricia L. Toppings,
OSD Federal Register Liaison Officer, Department of Defense.

HDTRA 08

SYSTEM NAME:

National Nuclear Weapon Stockpile Accountability Records.

SYSTEM LOCATION:

Headquarters, Defense Threat Reduction Agency, Nuclear Support Directorate, Attn: Chief, Stockpile Operations Branch, 8725 John J. Kingman Road, Stop 6201, Fort Belvoir, VA 22060-6201.

CATEGORIES OF INDIVIDUALS COVERED BY THE SYSTEM:

Individuals affiliated with DoD and Department of Energy Agencies who perform maintenance actions on the national nuclear weapon stockpile.

CATEGORIES OF RECORDS IN THE SYSTEM:

System access request forms and records of maintenance actions performed on the national nuclear stockpile. The records contain individual's name, Employee Identification Number or Social Security Number (SSN), affiliation (military, civilian, or contractor), military rank, physical and electronic duty addresses, duty telephone numbers, security clearance and read-in information, system access information.

AUTHORITY FOR MAINTENANCE OF THE SYSTEM:

42 U.S.C. 2121, the Atomic Energy Act of 1954; DoDD 5210.41, Security Policy for Protecting Nuclear Weapons; CJCSI 3150.04, Nuclear Weapons Stockpile Logistics Management and Nuclear Weapons Reports under the Joint Reporting Structure, DOE-DTRA Technical Publication (TP) 35-7, Inspection Records and E.O. 9397 (SSN).

PURPOSE(S):

To provide accountability by reporting maintenance actions on nuclear weapons in the national nuclear weapon stockpile in peacetime, crisis, and wartime to authorized DoD and Department of Energy personnel.

ROUTINE USES OF RECORDS MAINTAINED IN THE SYSTEM, INCLUDING CATEGORIES OF USERS AND THE PURPOSES OF SUCH USES:

In addition to those disclosures generally permitted under 5 U.S.C. 552(a) of the Privacy Act of 1974, these records contained therein may specifically be disclosed outside the DoD as a routine use pursuant to 5 U.S.C. 552a(b)(3) as follows:

To officials and employees of United States Federal Government agencies in the performance of their official duties related to the accountability of the national nuclear weapons stockpile.

POLICIES AND PRACTICES FOR STORING, RETRIEVING, ACCESSING, RETAINING, AND DISPOSING OF RECORDS IN THE SYSTEM:

STORAGE:

Paper records and electronic storage media.

RETRIEVABILITY:

Individual's name, user code, last four digits of Social Security Number (SSN), location, weapon serial number, system access level.

SAFEGUARDS:

Records are maintained in secure, limited access areas approved for classified processing. Servers, workstations and laptops are password protected. Data transmission is encrypted. Hardcopy files are classified documents when complete and protected as such, either in certified open storage areas or kept in secured, classified safes.

RETENTION AND DISPOSAL:

Nuclear weapons maintenance records are permanent records. Hard copy user access request forms will be retained for at least six years or longer if needed for investigative or security purposes. Electronic user identification, profiles, authorizations are permanent records for accountability; accounts will be deactivated when no longer in use.

SYSTEM MANAGER(S) AND ADDRESS:

Branch Chief, Defense Threat Reduction Agency, Nuclear Support Directorate, Stockpile Operations Branch (DTRA/NSPO), 8725 John J. Kingman Rd, Stop 6201, Ft. Belvoir, VA 22060-6201.

NOTIFICATION PROCEDURE:

Individuals seeking to determine whether this system of records contains information about themselves should address written inquiries to Defense Threat Reduction Agency, Nuclear Support Directorate, Attn: Branch Chief, Stockpile Operations Branch, 8725 John J. Kingman Rd, Stop 6201, Ft. Belvoir, VA 22060-6201.

Individuals should furnish full name, last four digits of the Social Security Number (SSN), the duty locations where system access was granted, current address, and telephone number.

RECORD ACCESS PROCEDURES:

Individuals seeking to access records about themselves contained in this system of records should address written inquiries to Defense Threat Reduction Agency, Nuclear Support Directorate, Attn: Branch Chief, Stockpile Operations Branch (DTRA/NSPO), 8725 John J. Kingman Rd, Stop 6201, Ft. Belvoir, VA 22060-6201.

Individuals should furnish full name, last four digits of the Social Security Number (SSN), the duty locations where system access was granted, current address, and telephone number.

CONTESTING RECORD PROCEDURES:

The DTRA rules for contesting contents are published in 32 CFR part 318, or may be obtained from the System Manager.

RECORD SOURCE CATEGORIES:

Individual, individual's security manager and supervisor.

EXEMPTIONS CLAIMED FOR THE SYSTEM:

None.

[FR Doc. E9-18904 Filed 8-6-09; 8:45 am]

BILLING CODE 5001-06-P